DEPARTMENT OF ENERGY

U.S. Energy Information Administration

Agency Information Collection Extension

AGENCY: U.S. Energy Information Administration (EIA), Department of Energy.

ACTION: Notice and Request for OMB Review and Comment.

SUMMARY: The EIA has submitted an information collection request to the OMB for extension under the provisions of the Paperwork Reduction Act of 1995. The information collection requests a three-year extension of its Form EIA-914, “Monthly Natural Gas Production Report” OMB Control Number 1910-0205. The proposed collection will collect monthly data on the production of natural gas in seven geographical areas (Texas (including State offshore), Louisiana (including State offshore), Oklahoma, New Mexico, Wyoming, Federal Gulf of Mexico offshore and Other States (defined as all remaining states, except Alaska, in which the operator produced natural gas during the report month)). Data will be used to monitor natural gas supplies. Survey respondents would be a sample of well operators.

DATES: Comments regarding this proposed information collection must be received on or before April 16, 2012. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

ADDRESSES: Written comments should be sent to the DOE Desk Officer, Office of Information and Regulatory Affairs, Office of Management and Budget, New Executive Office Building, 725 17th Street, NW., Washington, DC 20503.

A copy of comments should also be sent to Jason Worrall. To ensure receipt of the comments by the due date, email (Jason.worrall@eia.gov) is recommended. The mailing address is Office of Survey Development and Statistical Integration, (EI-21), Forrestal Building, U.S. Department of Energy, 1000 Independence Ave. SW., Washington, DC 20585-0670. Mr. Worrall may be contacted by telephone at (202) 586-6075.

FOR FURTHER INFORMATION CONTACT: Requests for additional information should be directed to Jason Worrall. To ensure receipt of the comments by the due date, email (Jason.worrall@eia.gov) is recommended. The mailing address is Office of Survey Development and Statistical Integration, (EI-21), Forrestal Building, U.S. Department of Energy, 1000 Independence Ave. SW., Washington, DC 20585-0670. Mr. Worrall may be contacted by telephone at (202) 586-6075.

SUPPLEMENTARY INFORMATION: This information collection request contains:

(1) OMB No. 1905-0205.

(2) Information Collection Request Title: Form EIA-914, “Monthly Natural Gas Production Report”.

(3) Type of Request: Three-year extension.

(4) Purpose: The purpose of the survey is to collect monthly data on the production of natural gas in seven geographical areas (Texas (including State offshore), Louisiana (including State offshore), Oklahoma, New Mexico, Wyoming, Federal Gulf of Mexico offshore and Other States (defined as all remaining states, except Alaska, in which the operator produced natural gas during the report month). Data will be used to monitor natural gas supplies. Survey respondents would be a sample of well operators.

(5) Annual Estimated Number of Respondents: 243.

(6) Annual Estimated Number of Total Responses: 2,916.

(7) Annual Estimated Number of Burden Hours: 8,748.

(8) Annual Estimated Reporting and Recordkeeping Cost Burden: $0. There are no additional costs to respondents associated with the survey other than the costs associated with the burden hours.

Statutory Authority: Section 13(b) of the Federal Energy Administration Act of 1974, Pub. L. 93-275, codified at 15 U.S.C. 772(b).

Issued in Washington, DC, on March 9, 2012.
Renee Miller,
Acting Director, Office of Survey Development and Statistical Integration, U.S. Energy Information Administration.

[FR Doc. 2012-6268 Filed 3-14-12; 8:45 am]

BILLING CODE 6450-01-P